DEPARTMENT OF ENERGY

Federal Energy Regulatory Commission

Notice of Commission Attendance at the Western Electricity Coordinating Council Board of Directors Meeting

The Federal Energy Regulatory Commission (Commission) hereby gives notice that members of the Commission and/or Commission staff may attend the following meeting:

Western Electricity Coordinating Council Board of Directors Strategic Planning Session, 155 North 400 West, Suite 200, Salt Lake City, Utah 84013.

September 6, 2012 (1:00 p.m.-5:00 p.m.)

September 7, 2012 (8:30 a.m.-12:00 p.m.)

Further information regarding this meeting may be found at: http://www.wecc.biz/committees/BOD/default.aspx.

Dated: August 30, 2012.
Kimberly D. Bose,
Secretary.

[FR Doc. 2012-22055 Filed 9-6-12; 8:45 am]

BILLING CODE 6717-01-P